INTERNATIONAL TRADE COMMISSION

[USITC SE-17-005]

Government in the Sunshine Act Meeting Notice

AGENCY HOLDING THE MEETING: United States International Trade Commission.

TIME AND DATE: February 15, 2017 at 10:00 a.m.

PLACE: Room 101, 500 E Street SW., Washington, DC 20436, Telephone: (202) 205-2000.

STATUS: Open to the public.

MATTERS TO BE CONSIDERED:

1. Agendas for future meetings: None

2. Minutes

3. Ratification List

4. Vote in Inv. Nos. 701-TA-555 and 731-TA-1310 (Final) (Certain Amorphous Silica Fabric from China). The Commission is currently scheduled to complete and file its determinations and views of the Commission by March 10, 2017.

5. Outstanding action jackets: None

In accordance with Commission policy, subject matter listed above, not disposed of at the scheduled meeting, may be carried over to the agenda of the following meeting.

By order of the Commission.
Issued: February 8, 2017.
William R. Bishop,
Supervisory Hearings and Information Officer.

[FR Doc. 2017-02882 Filed 2-8-17; 4:15 pm]

BILLING CODE 7020-02-P